DEPARTMENT OF HOUSING AND URBAN DEVELOPMENT

[Docket No. FR-5415-FA-26]

Announcement of Funding Awards; HUD's Fiscal Year (FY) 2010 NOFA for the Fair Housing Initiatives Program Enforcement Testing Technical Assistance

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) Enforcement Testing Technical Assistance for Fiscal Year (FY) 2010. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street SW., Room 5230, Washington, DC 20410. Telephone number (202) 402-7095 (this is not a toll-free number). Persons with hearing or speech impairments may access this number through TTY by calling the toll-free Federal Relay Service at (800) 877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with state and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent state and local fair housing laws. Implementing regulations are found at 24 CFR part 125.

The Department published its Fair Housing Initiatives Program (FHIP) Enforcement Testing Technical Assistance NOFA on April 14, 2011 announcing the availability of approximately $380,000 out of the Department's FY 2010 appropriation, to be utilized for FHIP Enforcement Testing Technical Assistance from Transformation Initiative Funding. This Notice announces the grant award of approximately $272,990.

For the FY 2010 NOFA, the Department reviewed, evaluated and scored the applications received based on the criteria in the FY 2010 NOFA. As a result, HUD has funded the application announced in Appendix A, and in accordance with section 102(a)(4)(C) of the Department of Housing and Urban Development Reform Act of 1989 (103 Stat. 1987, 42 U.S.C. 3545), the Department is hereby publishing details concerning the recipient of the funding award in Appendix A of this document.

The Catalog of Federal Domestic Assistance Number for currently funded Initiatives under the Fair Housing Initiatives Program is 14.408.

Dated: October 31, 2011.
Bryan Greene,
General Deputy Assistant Secretary, Fair Housing and Equal Opportunity.

Appendix A

Enforcement Testing Technical Assistance
Applicant name | Contact | Region | Award amount
Metropolitan Milwaukee Fair Housing Council, Inc., 600 East Mason Street, Suite 401, Milwaukee, WI 53202-3876 | Mr. William Tisdale, 414-278-1240 | 5 | $272,990.00

[FR Doc. 2011-29517 Filed 11-15-11; 8:45 am]

BILLING CODE 4210-67-P